ENVIRONMENTAL PROTECTION AGENCY

40 CFR Part 271

[EPA-R09-RCRA-2024-0298; FRL-12239-02-R9]

Authorization of State Hazardous Waste Management Program Revisions: California

AGENCY: Environmental Protection Agency (EPA).

ACTION: Final action.

SUMMARY: The Environmental Protection Agency (EPA) is taking direct final action to authorize changes California has made to its hazardous waste program under the Resource Conservation and Recovery Act, as amended. The Agency has reviewed California's application for authorization of these changes and determined that the changes satisfy all requirements.

DATES: This authorization is effective on November 10, 2025 without further notice, unless the EPA receives adverse comment by October 14, 2025. If the EPA receives adverse comment, we will publish a timely withdrawal in the Federal Register informing the public that the authorization will not take effect.

ADDRESSES: All documents in the docket are listed in the www.regulations.gov index. Publicly available docket materials are available either electronically in www.regulations.gov or in hard copy. You may also view California's application at: California Environmental Protection Agency, Department of Toxic Substances Control, 1001 “I” Street, 11th floor, Sacramento, CA 95814, Attention: Carmela Torres, Phone (916) 322-7893, from 8 a.m. to noon and 1 p.m. to 5 p.m., Monday through Friday (appointment preferred but not required).

Instructions: Submit your comments to the Environmental Protection Agency (EPA), identified by Docket ID No. EPA-R09-RCRA-2024-0298, at https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). The https://www.regulations.gov website is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment. If EPA cannot read your comment due to technical difficulties and cannot contact you for clarification, EPA may not be able to consider your comment. Electronic files should avoid the use of special characters, any form of encryption, and be free of any defects or viruses.

FOR FURTHER INFORMATION CONTACT: Naimah Ali, EPA Region 9, 75 Hawthorne St, San Francisco, CA 94105. By phone: (619) 849-1319 or by email at ali.naimah@epa.gov.

SUPPLEMENTARY INFORMATION:

A. Why are revisions to state programs necessary?

States that have received final authorization from EPA under the Resource Conservation and Recovery Act (RCRA) section 3006(b), 42 United States Code (U.S.C.) section 6926(b), must maintain a hazardous waste program that is equivalent to, consistent with, and no less stringent than the federal program. As the federal program changes, states must change their programs and ask EPA to authorize the changes. Changes to state programs may be necessary when federal or state statutory or regulatory authority is modified or when certain other changes occur. Most commonly, states must change their programs because of changes to EPA's regulations in 40 Code of Federal Regulations (CFR) parts 124, 260 through 268, 270, 273, and 279.

Many of the new federal requirements and prohibitions imposed by federal regulations that EPA promulgates pursuant to the Hazardous and Solid Waste Amendments of 1984 (HSWA) take effect in authorized states at the same time that they take effect in unauthorized states. Thus, EPA, where necessary, will implement those requirements and prohibitions in California, including the issuance of new permits implementing those requirements, until the state is granted authorization to do so.

B. What decisions has EPA made in this action?

On September 30, 2022, California submitted a program revision application to EPA seeking authorization of changes to its hazardous waste management program that correspond to the following EPA rules (and corresponding RCRA rule checklists):

—The Hazardous Waste Electronic Manifest Rules (Special Consolidated Checklist for the Hazardous Waste Electronic Manifest Rules [EM]);

—Change of Official EPA Mailing Address, (Checklist 193).

—The Uniform Hazardous Waste Manifest Rule (Checklist 207);

—The Rule Regarding Removal of Saccharin and Its Salts from the Lists of Hazardous Constituents, Hazardous Wastes, and Hazardous Substances, (Checklist 225);

—Land Disposal Treatment Standards for Carbamate Wastes, (Checklist 227).

—Imports and Exports of Hazardous Waste, (Checklist 236); and

—The Hazardous Waste Electronic Manifest User Fee Rule, (Checklist 239).

EPA concludes that California's application to revise its authorized program meets all statutory and regulatory requirements established by RCRA, as set forth in RCRA section 3006(b), 42 U.S.C. 6926(b), and 40 CFR part 271. Therefore, EPA proposes to grant California final authorization to operate its hazardous waste program with the changes described in the authorization application dated September 30, 2022, and as outlined below in Section F of this document.

California has responsibility for permitting treatment, storage, and disposal facilities within its borders (except in Indian country) and for carrying out the aspects of the RCRA program described in its revised program application, subject to the limitations of HSWA, as discussed above.

C. What is the effect of today's authorization decision?

If California is authorized for the changes described in the State's authorization application, these changes would become part of the authorized State hazardous waste program and would therefore be federally enforceable. California will continue to have primary enforcement authority and responsibility for its State hazardous waste program. EPA would retain its authorities under RCRA sections 3007, 3008, 3013, and 7003, including its authority to:

• Conduct inspections, and require monitoring, tests, analyses or reports;

• Enforce RCRA requirements, including authorized California program requirements, and suspend or revoke permits; and

• Take enforcement actions regardless of whether the State has taken its own actions.

This action does not impose additional requirements on the regulated community because the regulations for which California is being authorized by today's action are already effective and are not changed by today's action.

D. Why is EPA using a direct final action?

The EPA is publishing this action without a prior proposed action because we view this as a noncontroversial action and anticipate no adverse comment. This action is a routine program change. However, in the “Proposed Rules” section of this issue of the Federal Register, we are publishing a separate document that will serve as the proposed action allowing the public an opportunity to comment. We will not institute a second comment period on this action. Any parties interested in commenting must do so at this time. For further information about commenting on this action, see the ADDRESSES section of this document.

EPA will consider all comments received during the comment period and address them in a final action. You may not have another opportunity to comment. If you want to comment on this proposed authorization, you must do so at this time.

E. What has California previously been authorized for?

California initially received final RCRA authorization for the State's hazardous waste management program on July 23, 1992 (57 FR 32726), effective August 1, 1992. EPA granted final authorization for changes to California's program on the following dates: September 26, 2001 (66 FR 49118), October 7, 2011 (76 FR 62303), and January 14, 2020 (85 FR 2038), revised June 01, 2021 (86 FR 29207).

F. What changes is EPA authorizing with today's action?

EPA proposes to determine, subject to our consideration of any adverse written comments, that California's hazardous waste program revisions are equivalent to, consistent with and no less stringent than the federal program and therefore satisfy all the requirements necessary to qualify for final authorization.

1. EPA is proposing to authorize California's program changes as outlined in the following table:

State Analogues to the Federal Program
Federal regulatory citations, rules and checklists (CL) | Federal Register citations and dates (checklists [CL]) | Analogous State authorities
Title 40, Code of Federal Regulations (40 CFR) 260.2(c)(1), Hazardous Waste Electronic Manifest Rules (Special Consolidated Checklist for the Hazardous Waste Electronic Manifest Rules [EM]) | 79 FR 7518, Feb. 7, 2014, and 79 FR 7518, Jan. 3, 2018 (EM) | Title 22, California Code of Regulations (22 CCR) 66260.2(c)(1), amended July 14, 2022 (Register 2022, No. 28).
40 CFR 260.2(c)(2), (EM) | 79 FR 7518, Feb. 7, 2014, and 79 FR 7518, Jan. 3, 2018 (EM) | 22 CCR 66260.2(c)(2), amended July 14, 2022 (Register 2022, No. 28).
40 CFR 260.4-260.4(a)(4), (EM) | 79 FR 7518, Feb. 7, 2014, and 79 FR 7518, Jan. 3, 2018 (EM) | California Health and Safety Code (HSC) Division 20, 25160(e)(1), enacted 2021, operative Jan. 1, 2022; 22 CCR 66264.71, CCR 66264.71(a)(1), 66265.71(a)(1), 66264.71(a)(2), 66264.71(a) (2)(A), 66265.71(a)(1), 66265.71(a)(2), 66265.71(a) (2)(A), 66264.71(l)(3), 66265.71(a)(2)(M)(3), and 66264.71(l)(4), amended Aug. 24, 2006 (Register 2006, No. 34), Aug. 20, 2018 (Register 2018, No. 34), and July 14, 2022 (Register 2022, No. 28).
40 CFR 260.5, (EM) | 79 FR 7518, Feb. 7, 2014, and 79 FR 7518, Jan. 3, 2018 (EM) | HSC 25160(e)(1), enacted 2021, operative Jan. 1, 2022; HSC 25160.01(c)(1), enacted 2019, effective Jan. 1, 2020; 22 CCR 66260.10, 66264.72, and 66265.72, amended Aug. 24, 2006 (Register 2006, No. 34), Aug. 20, 2018 (Register 2018, No. 34), and July 14, 2022 (Register 2022, No. 28).
40 CFR 260.10, Uniform Hazardous Waste Manifest Rule (CL 207), Imports and Exports of Hazardous Waste (CL 236), (EM) | 70 FR 10776, March 4, 2005, and 70 FR 35034, June 16, 2005 (CL 207); 81 FR 85696, Nov. 28, 2016, 82 FR 41015, Aug. 29, 2017, and 83 FR 38263, Aug. 6, 2018, (CL 236); 79 FR 7518, Feb. 7, 2014, and 79 FR 7518, Jan. 3, 2018 (EM) | HSC 25160(a), 25160(a)(1), 25160(a)(1)(A), 25160(a)(1)(B), 25160(a)(1)(C), 25160(a)(1)(C)(i), 25160(a)(1)(C)(ii), enacted 2021, operative Jan. 1, 2022; 22 CCR 66260.10, amended Aug. 24, 2006 (Register 2006, No. 34), Aug. 20, 2018 (Register 2018, No. 34), and July 14, 2022 (Register 2022, No. 28).
40 CFR 260.11(a)(11) (now 260.11(a) and (c)(3)), Change of Official EPA Mailing Address, (CL 193) | 66 FR 34374, June 28, 2001 (CL 193) | 22 CCR 66260.11(a)(34), amended Nov. 21, 2011 (Register 2011, No. 47).
40 CFR 260.11(g) (now 260.11(e)), (CL 236) | 81 FR 85696, Nov. 28, 2016, 82 FR 41015, Aug. 29, 2017, and 83 FR 38263, Aug. 6, 2018 (CL 236) | 22 CCR 66260.11(a)(69), amended Aug. 20, 2018 (Register 2018, No. 34).
40 CFR 260.11(g)(1) (now 260.11(e)(1)), (CL 236) | 81 FR 85696, Nov. 28, 2016, 82 FR 41015, Aug. 29, 2017, and 83 FR 38263, Aug. 6, 2018 (CL 236) | 22 CCR 66260.11 (a)(69)(A), amended Aug. 20, 2018 (Register 2018, No. 34).
40 CFR 261.4(d)(1), (CL 236) | 81 FR 85696, Nov. 28, 2016, 82 FR 41015, Aug. 29, 2017, and 83 FR 38263, Aug. 6, 2018 (CL 236) | 22 CCR 66261.4(d), amended Aug. 20, 2018 (Register 2018, No. 34).
40 CFR 261.4(d)(4), (CL 236) | 81 FR 85696, Nov. 28, 2016, 82 FR 41015, Aug. 29, 2017, and 83 FR 38263, Aug. 6, 2018 (CL 236) | 22 CCR 66261.4(e)(7), amended Aug. 20, 2018 (Register 2018, No. 34).
40 CFR 261.4(e)(1), (CL 236) | 81 FR 85696, Nov. 28, 2016, 82 FR 41015, Aug. 29, 2017, and 83 FR 38263, Aug. 6, 2018 (CL 236) | 22 CCR 66261.4(e)(1), amended Aug. 20, 2018 (Register 2018, No. 34).
40 CFR 261.4(e)(4), (CL 236) | 81 FR 85696, Nov. 28, 2016, 82 FR 41015, Aug. 29, 2017, and 83 FR 38263, Aug. 6, 2018 (CL 236) | 22 CCR 66261.4(d)(4), amended Aug. 20, 2018 (Register 2018, No. 34).
40 CFR 261.6(a)(5), (CL 236) | 81 FR 85696, Nov. 28, 2016, 82 FR 41015, Aug. 29, 2017, and 83 FR 38263, Aug. 6, 2018 (CL 236) | 22 CCR 66261.6(a)(7), amended Aug. 20, 2018 (Register 2018, No. 34).
40 CFR 261.7(b)(1)(iii), (CL 207) | 70 FR 10776, March 4, 2005, and 70 FR 35034, June 16, 2005 (CL 207) | 22 CCR 66261.7(p)(1)(B), amended Oct. 19, 2000; (Register 2000, No. 42).
40 CFR 261.33(f) and Appendix VIII to Part 261, Rule Regarding Removal of Saccharin and Its Salts from the Lists of Hazardous Constituents, Hazardous Wastes, and Hazardous Substances, (CL 225) | 75 FR 78918, Dec. 17, 2010 (CL 225) | 22 CCR 66261.33, Appendix VIII to 22 CCR Chapter 11, and 22 CCR 66268.40, Treatment Standards Table, amended February 8, 2012 (Register 2012, No. 6).
40 CFR 261.39(a)(5)(ii), (CL 236) | 81 FR 85696, Nov. 28, 2016, 82 FR 41015, Aug. 29, 2017, and 83 FR 38263, Aug. 6, 2018 (CL 236) | 22 CCR 66273.40(a)(1), amended Aug. 20, 2018 (Register 2018, No. 34).
40 CFR 261.39(a)(5)(v), (CL 236) | 81 FR 85696, Nov. 28, 2016, 82 FR 41015, Aug. 29, 2017, and 83 FR 38263, Aug. 6, 2018 (CL 236) | 22 CCR 66273.40 (a)(1), amended Aug. 20, 2018 (Register 2018, No. 34).
40 CFR 262.10(d), (CL 236) | 81 FR 85696, Nov. 28, 2016, 82 FR 41015, Aug. 29, 2017, and 83 FR 38263, Aug. 6, 2018 (CL 236) | 22 CCR 66262.10(d), amended Aug. 20, 2018 (Register 2018, No. 34).
40 CFR 262.12(d), (CL 236) | 81 FR 85696, Nov. 28, 2016, 82 FR 41015, Aug. 29, 2017, and 83 FR 38263, Aug. 6, 2018 (CL 236) | 22 CCR 66262.12 (d), amended Aug. 20, 2018 (Register 2018, No. 34).
40 CFR 262.20(a)(1), (CL 207), (EM) | 70 FR 10776, March 4, 2005, and 70 FR 35034, June 16, 2005 (CL 207); 79 FR 7518, Feb. 7, 2014, and 79 FR 7518, Jan. 3, 2018 (EM) | 22 CCR 66262.20(a), amended Aug. 24, 2006 (Register 2006, No. 34) and July 14, 2022 (Register 2022, No. 28).
40 CFR 262.20(a)(2), (CL 207), (EM) | 70 FR 10776, March 4, 2005, and 70 FR 35034, June 16, 2005 (CL 207); 79 FR 7518, Feb. 7, 2014, and 79 FR 7518, Jan. 3, 2018 (EM) | 22 CCR 66262.20(a)(1), amended Aug. 24, 2006 (Register 2006, No. 34) and July 14, 2022 (Register 2022, No. 28).
40 CFR 262.20(a)(3), (EM) | 79 FR 7518, Feb. 7, 2014, and 79 FR 7518, Jan. 3, 2018 (EM) | 22 CCR 66262.20(e), amended July 14, 2022 (Register 2022, No. 28).
40 CFR 262.21, (CL 207), (EM) | 70 FR 10776, March 4, 2005, and 70 FR 35034, June 16, 2005 (CL 207); 79 FR 7518, Feb. 7, 2014, and 79 FR 7518, Jan. 3, 2018 (EM) | 22 CCR 66262.21, amended Aug. 24, 2006 (Register 2006, No. 34) and July 14, 2022 (Register 2022, No. 28).
40 CFR 262.21(a)(1)-262.21(m)(2), (CL 207) | 70 FR 10776, March 4, 2005, and 70 FR 35034, June 16, 2005 (CL 207) | 22 CCR 66262.21(c), 66262.21(d), 66262.21(e)(1), 66262.21(e)(2), and 66262.21(e)(3), amended Aug. 24, 2006 (Register 2006, No. 34) and July 14, 2022 (Register 2022, No. 28).
40 CFR 262.24, (EM) | 79 FR 7518, Feb. 7, 2014, and 79 FR 7518, Jan. 3, 2018 (EM) | HSC 25160.01(a), enacted 2019, effective Jan. 1, 2020; and 22 CCR 66262.24, amended July 14, 2022 (Register 2022, No. 28).
40 CFR 262.25, (EM) | 79 FR 7518, Feb. 7, 2014, and 79 FR 7518, Jan. 3, 2018 (EM) | 22 CCR 66262.25(a), amended July 14, 2022 (Register 2022, No. 28).
40 CFR 262.27, (CL 207) | 70 FR 10776, March 4, 2005, and 70 FR 35034, June 16, 2005 (CL 207) | 22 CCR 66262.27, amended Aug. 24, 2006 (Register 2006, No. 34).
40 CFR 262.32(b), (CL 207) | 70 FR 10776, March 4, 2005, and 70 FR 35034, June 16, 2005 (CL 207) | 22 CCR 66262.32(b)(1), amended Aug. 24, 2006 (Register 2006, No. 34).
Par40 CFR 262.33, (CL 207) | 70 FR 10776, March 4, 2005, and 70 FR 35034, June 16, 2005 (CL 207) | 22 CCR 66262.33, amended Aug. 24, 2006 (Register 2006, No. 34).
40 CFR 262.34(m), (CL 207) | 70 FR 10776, March 4, 2005, and 70 FR 35034, June 16, 2005 (CL 207) | 22 CCR 66262.34(g), amended Aug. 24, 2006 (Register 2006, No. 34).
40 CFR 262.41(b), (CL 236) | 81 FR 85696, Nov. 28, 2016, 82 FR 41015, Aug. 29, 2017, and 83 FR 38263, Aug. 6, 2018 (CL 236) | 22 CCR 66262.41(c), amended Aug. 20, 2018 (Register 2018, No. 34).
40 CFR 262.80-262.89, (CL 236) | 81 FR 85696, Nov. 28, 2016, 82 FR 41015, Aug. 29, 2017, and 83 FR 38263, Aug. 6, 2018 (CL 236) | 22 CCR 66262.81-66262.89, amended Aug. 20, 2018 (Register 2018, No. 34).
40 CFR Part 262/Appendix, Hazardous Waste Electronic Manifest User Fee Rule (CL 239), (EM) | [Removed 83 FR 420, Jan. 3, 2018 (CL 239/EM)] | 22 CCR 66262 Appendix, repealed July 14, 2022 (Register 2022, No. 28).
40 CFR 263.10(a) [Note], (CL 236) | 81 FR 85696, Nov. 28, 2016, 82 FR 41015, Aug. 29, 2017, and 83 FR 38263, Aug. 6, 2018 (CL 236) | 22 CCR 66263.10, amended Aug. 20, 2018 (Register 2018, No. 34).
40 CFR 263.10(d), (CL 236) | 81 FR 85696, Nov. 28, 2016, 82 FR 41015, Aug. 29, 2017, and 83 FR 38263, Aug. 6, 2018 (CL 236) | 22 CCR 66263.10(d), amended Aug. 20, 2018 (Register 2018, No. 34).
40 CFR 263.20(a)(1)-(9), (CL 207), (CL 236), (EM) | 70 FR 10776, March 4, 2005, and 70 FR 35034, June 16, 2005 (CL 207); 81 FR 85696, Nov. 28, 2016, 82 FR 41015, Aug. 29, 2017, and 83 FR 38263, Aug. 6, 2018, (CL 236); 79 FR 7518, Feb. 7, 2014, and 79 FR 7518, Jan. 3, 2018 (EM) | HSC 25160(d)(1)—(3), enacted 2021, operative Jan. 1, 2022; HSC 25160.01(a), enacted 2019, effective Jan. 1, 2020; and 22 CCR 66263.20(a)(1)—(9), amended Aug. 24, 2006 (Register 2006, No. 34), Aug. 20, 2018 (Register 2018, No. 34), and July 14, 2022 (Register 2022, No. 28).
40 CFR 263.20(c), (CL 236) | 81 FR 85696, Nov. 28, 2016, 82 FR 41015, Aug. 29, 2017, and 83 FR 38263, Aug. 6, 2018 (CL 236) | 22 CCR 66263.20(c), amended Aug. 20, 2018 (Register 2018, No. 34).
40 CFR 263.20(e)(2), (CL 236) | 81 FR 85696, Nov. 28, 2016, 82 FR 41015, Aug. 29, 2017, and 83 FR 38263, Aug. 6, 2018 (CL 236) | 22 CCR 66263.20(h)(2), amended Aug. 20, 2018 (Register 2018, No. 34).
40 CFR 263.20(f)(2), (CL 236) | 81 FR 85696, Nov. 28, 2016, 82 FR 41015, Aug. 29, 2017, and 83 FR 38263, Aug. 6, 2018 (CL 236) | 22 CCR 66263.20(i)(2), amended Aug. 20, 2018 (Register 2018, No. 34).
40 CFR 263.20(g), (CL 207) | 70 FR 10776, March 4, 2005, and 70 FR 35034, June 16, 2005 (CL 207) | 22 CCR 66263.20(j), amended Aug. 24, 2006 (Register 2006, No. 34).
40 CFR 263.21, (CL 207), (EM) | 70 FR 10776, March 4, 2005, and 70 FR 35034, June 16, 2005 (CL 207); 79 FR 7518, Feb. 7, 2014, and 79 FR 7518, Jan. 3, 2018 (EM) | 22 CCR 66263.21(a)—(c)(2), amended Aug. 24, 2006 (Register 2006, No. 34) and July 14, 2022 (Register 2022, No. 28).
40 CFR 263.25, (EM) | 79 FR 7518, Feb. 7, 2014, and 79 FR 7518, Jan. 3, 2018 (EM) | 22 CCR 66263.25, amended July 14, 2022 (Register 2022, No. 28).
40 CFR 264.12(a) and 265.12(a), (CL 236) | 81 FR 85696, Nov. 28, 2016, 82 FR 41015, Aug. 29, 2017, and 83 FR 38263, Aug. 6, 2018 (CL 236) | 22 CCR 66264.12(a) and 66265.12(a), amended Aug. 24, 2006 (Register 2006, No. 34) and Aug. 20, 2018 (Register 2018, No. 34).
40 CFR 264.70 and 265.70, (CL 207) | 70 FR 10776, March 4, 2005, and 70 FR 35034, June 16, 2005 (CL 207) | 22 CCR 66264.70 and 66265.70, amended Aug. 24, 2006 (Register 2006, No. 34).
40 CFR 264.71(a) and 265.71(a), (CL 207), (CL 236), (EM) | 70 FR 10776, March 4, 2005, and 70 FR 35034, June 16, 2005 (CL 207); 81 FR 85696, Nov. 28, 2016, 82 FR 41015, Aug. 29, 2017, and 83 FR 38263, Aug. 6, 2018, (CL 236); 79 FR 7518, Feb. 7, 2014, and 79 FR 7518, Jan. 3, 2018 (EM) | 22 CCR 66264.71(a) and 66265.71(a), amended Aug. 24, 2006 (Register 2006, No. 34), Aug. 20, 2018 (Register 2018, No. 34), and July 14, 2022 (Register 2022, No. 28).
40 CFR 264.71(b)(4) and 265.71(b)(4), (CL 207) | 70 FR 10776, March 4, 2005, and 70 FR 35034, June 16, 2005 (CL 207) | 22 CCR 66264.71(b)(4)and 66265.71(b)(4), amended Aug. 24, 2006 (Register 2006, No. 34).
40 CFR 264.71(d) and 265.71(d), (CL 236) | 81 FR 85696, Nov. 28, 2016, 82 FR 41015, Aug. 29, 2017, and 83 FR 38263, Aug. 6, 2018 (CL 236) | 22 CCR 66264.71(d) and 66265.71(d), amended Aug. 20, 2018 (Register 2018, No. 34).
40 CFR 264.71(e) and 265.71(e), (CL 207) | 70 FR 10776, March 4, 2005, and 70 FR 35034, June 16, 2005 (CL 207) | 22 CCR 66264.71(a)(2)(G) and 66265.71(a)(2)(G), amended Aug. 24, 2006 (Register 2006, No. 34).
40 CFR 264.71(f)-(l)(5) and 265.71(f)-(l)(5), (EM) | 79 FR 7518, Feb. 7, 2014, and 79 FR 7518, Jan. 3, 2018 (EM) | HSC 25160.01(a), (c)(1), (c)(2), enacted 2019, effective Jan. 1, 2020; 22 CCR 66264.71(h)-(n)(5) and 66265.71(a)(2)(I)-(O)(5), amended July 14, 2022 (Register 2022, No. 28).
40 CFR 264.72(a)-(g) and 265.72(a)-(g), (CL 207) | 70 FR 10776, March 4, 2005, and 70 FR 35034, June 16, 2005 (CL 207) | 22 CCR 66264.72(a)-(g) and 66265.72(a)-(g), amended Aug. 24, 2006 (Register 2006, No. 34).
40 CFR 264.76 and 265.76, (CL 207) | 70 FR 10776, March 4, 2005, and 70 FR 35034, June 16, 2005 (CL 207) | 22 CCR 66264.76 and 66265.76, amended Aug. 24, 2006 (Register 2006, No. 34).
40 CFR 264.1086(c)(4)(i) and 265.1087(c)(4)(i), (EM) | 79 FR 7518, Feb. 7, 2014, and 79 FR 7518, Jan. 3, 2018 (EM) | 22 CCR 66264.1086(c)(4)(A) and 66265.1087(c)(4)(A), amended July 14, 2022 (Register 2022, No. 28).
40 CFR 264.1086(d)(4)(i) and 265.1087(d)(4)(i), (EM) | 79 FR 7518, Feb. 7, 2014, and 79 FR 7518, Jan. 3, 2018 (EM) | 22 CCR 66264.1086(d)(4)(A) and 66265.1087(d)(4)(A), amended July 14, 2022 (Register 2022, No. 28).
40 CFR Part 264, Subpart FF (40 CFR 264.1300-1316) and Part 265, Subpart FF (40 CFR 265.1300-1316), (EM) | 79 FR 7518, Feb. 7, 2014, and 79 FR 7518, Jan. 3, 2018 (EM) | HSC 25160.01(c)(1)—(2), enacted 2019, effective Jan. 1, 2020; 22 CCR 66264.71(l) and 66265.71(a)(2)(M)(1)-(2), amended July 14, 2022 (Register 2022, No. 28).
40 CFR 267.71(a)(4), (5) and (6), (CL 236) | 81 FR 85696, Nov. 28, 2016, 82 FR 41015, Aug. 29, 2017, and 83 FR 38263, Aug. 6, 2018 (CL 236) | 22 CCR 66264.71(a)(2)(D), (E), and (a)(3)(B), amended Aug. 20, 2018 (Register 2018, No. 34).
40 CFR 267.71(d), (CL 236) | 81 FR 85696, Nov. 28, 2016, 82 FR 41015, Aug. 29, 2017, and 83 FR 38263, Aug. 6, 2018 (CL 236) | 22 CCR 66264.71(d), amended Aug. 20, 2018 (Register 2018, No. 34).
40 CFR 268.40, Land Disposal Treatment Standards for Carbamate Wastes, (CL 227) | 76 FR 34147, June 13, 2011 (CL 227) | 22 CCR 66268.40, amending Table, “Treatment Standards for Hazardous Wastes,” listings K156, et seq., P127, et seq. and U271, et seq., July 12, 2012 (Register 2012, No. 28).
40 CFR 268.48, (CL 227) | 76 FR 34147, June 13, 2011 (CL 227) | 22 CCR 66268.48, amending Table, “Universal Treatment Standards,” July 12, 2012 (Register 2012, No. 28).
40 CFR 273.2, (CL 236) | 81 FR 85696, Nov. 28, 2016, 82 FR 41015, Aug. 29, 2017, and 83 FR 38263, Aug. 6, 2018 (CL 236) | 22 CCR 66273.40(a)(1), amended Aug. 20, 2018 (Register 2018, No. 34).
40 CFR 273.39(a) and (b), (CL 236) | 81 FR 85696, Nov. 28, 2016, 82 FR 41015, Aug. 29, 2017, and 83 FR 38263, Aug. 6, 2018 (CL 236) | 22 CCR 66273.39(a) and (c), amended Aug. 20, 2018 (Register 2018, No. 34).
40 CFR 273.40, (CL 236) | 81 FR 85696, Nov. 28, 2016 (CL 236) | 22 CCR 66273.40(a)(1), amended Aug. 20, 2018 (Register 2018, No. 34).
40 CFR 273.56, (CL 236) | 81 FR 85696, Nov. 28, 2016 (CL 236) | 22 CCR 66273.56, amended Aug. 20, 2018 (Register 2018, No. 34).
40 CFR 273.62(a), (CL 236) | 81 FR 85696, Nov. 28, 2016 (CL 236) | 22 CCR 66273.62(a), amended Aug. 20, 2018 (Register 2018, No. 34).
40 CFR 273.70, (CL 236) | 81 FR 85696, Nov. 28, 2016 (CL 236) | 22 CCR 66273.41, amended Aug. 20, 2018 (Register 2018, No. 34).

2. There are several Federal rules that have been vacated, withdrawn, or superseded. As a result, authorization of these actions may be moot. However, for purposes of completeness, these action checklists are included here with an explanation as to the action's status in California. California never adopted the RCRA comparable fuel exclusion contained in Checklist 221: Expansion of RCRA Comparable Fuel Exclusion (73 FR 77954, December 19, 2008). As a result, adopting Checklist 224: Withdrawal of the Emission Comparable Fuel Exclusion (75 FR 33712, June 15, 2010) would be unnecessary.

G. Where are the revised state actions different from the federal rules?

EPA considers the following California requirement to be broader in scope than the Federal program, and, to the extent it is broader in scope than the Federal program, it is not proposed for authorization:

• Title 22, California Code of Regulations Section 66262.83(h)(1) (compare to 40 CFR 262.83(h)(1))—California requires the exporter to file an exception report with EPA and DTSC for RCRA hazardous waste, or with DTSC for non-RCRA hazardous waste. Thus, the State's program is broader in scope than the federal program to the extent it imposes exception reporting obligations on exporters of non-RCRA hazardous waste.

H. Who handles permits after the authorization takes effect?

California will continue to issue permits for all the provisions for which it is authorized and will administer the permits it issues. Section 3006(g)(1) of RCRA, 42 U.S.C. 6926(g)(1), gives EPA the authority to issue or deny permits or parts of permits for requirements for certain HSWA requirements for which the State is not authorized. Therefore, whenever EPA adopts standards under HSWA for activities or wastes not currently covered by the authorized program, EPA may process RCRA permits in California for the new or revised HSWA standards until California has received final authorization for such new or revised HSWA standards.

I. How does today's action affect Indian country in California?

California is not authorized to carry out its hazardous waste program in “Indian country” (as that term is defined at 18 U.S.C. 1151) within the State. Therefore, this action has no effect on Indian country. EPA retains jurisdiction over Indian country and will continue to implement and administer the RCRA program on these lands.

J. What is codification and is EPA codifying California's hazardous waste program as authorized in this action?

Codification—also known as “incorporation by reference”—is the process of placing citations and references to a state's statutes and regulations that comprise the state's authorized hazardous waste program into the Code of Federal Regulations. The EPA does this by adding those citations and references to the authorized state actions in 40 CFR part 272. The EPA is not codifying the authorization of California's revisions at this time. However, the EPA reserves the ability to amend 40 CFR part 272, subpart F, for the authorization of California's program, including these changes, when such authorization is finalized, at a later date.

K. Statutory and Executive Order Reviews

The Office of Management and Budget (OMB) has exempted this action from the requirements of Executive Order 12866 (58 FR 51735, Oct. 4, 1993) and 13563 (76 FR 3821, January 21, 2011). This action authorizes state requirements for the purpose of RCRA section 3006 and imposes no additional requirements beyond those imposed by state law. Therefore, this action is not subject to review by OMB. I certify that this action will not have a significant economic impact on a substantial number of small entities under the Regulatory Flexibility Act (5 U.S.C. 601 et seq.). Because this action authorizes pre-existing requirements under state law and does not impose any additional enforceable duty beyond that required by state law, it does not contain any unfunded mandate or significantly or uniquely affect small governments, as described in the Unfunded Mandates Reform Act of 1995 (2 U.S.C. 1531-1538). For the same reason and for the reasons set forth above in section I., this action also does not significantly or uniquely affect the communities of tribal governments, as specified by Executive Order 13175 (65 FR 67249, Nov. 9, 2000). This action will not have substantial direct effects on the states, on the relationship between the National Government and the states, or on the distribution of power and responsibilities among the various levels of government, as specified in Executive Order 13132 (64 FR 43255, Aug. 10, 1999), because it merely authorizes state requirements as part of a state RCRA hazardous waste program without altering the relationship or the distribution of power and responsibilities established by RCRA. This action also is not subject to Executive Order 13045 (62 FR 19885, Apr. 23, 1997) because it is not economically significant, and it does not make decisions based on environmental health or safety risks. This action is not subject to Executive Order 13211, “Actions Concerning Regulations That Significantly Affect Energy Supply, Distribution, or Use” (66 FR 28355, May 22, 2001), because it is not a significant regulatory action under Executive Order 12866. This action is not subject to Executive Order 14192 (90 FR 9065, February 6, 2025) because state hazardous waste program authorization revisions under Subtitle C of RCRA actions are exempt from review under Executive Order 12866.

Under RCRA section 3006(b), the EPA grants a state's application for authorization as long as the state meets the criteria required by RCRA. It would thus be inconsistent with applicable law for the EPA, when it reviews a state authorization application, to require the use of any particular voluntary consensus standard (VCS) in place of another standard that otherwise satisfies the requirements of RCRA. Thus, the requirements of section 12(d) of the National Technology Transfer and Advancement Act of 1995 (NTTAA) do not apply. See 15 U.S.C. 272 note, sec. 12(d)(3), Public Law 104-113, 110 Stat. 783 (Mar. 7, 1996) (exempting compliance with the NTTAA's requirement to use VCS if compliance is “inconsistent with applicable law”).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2).

Authority: This action is issued under the authority of sections 2002(a), 3006, and 7004(b) of the Solid Waste Disposal Act as amended, 42 U.S.C. 6912(a), 6926, and 6974(b).

List of Subjects in 40 CFR Part 271

Environmental protection, Administrative practice and procedure, Confidential business information, Hazardous waste, Hazardous waste transportation, Intergovernmental relations, Penalties, Reporting and recordkeeping requirements.

Dated: September 3, 2025.
Michael Martucci,
Acting Regional Administrator, Region 9.

[FR Doc. 2025-17541 Filed 9-10-25; 8:45 am]

BILLING CODE 6560-50-P